DEPARTMENT OF LABOR

Employment and Training Administration

[TA-W-54,884]

American Airlines, Las Vegas Reservations Office, Las Vegas, NV; Notice of Termination of Investigation

Pursuant to section 221 of the Trade Act of 1974, as amended, an investigation was initiated on May 11, 2004 in response to a worker petition filed by on behalf of workers at American Airlines, Las Vegas Reservations Office, Las Vegas, Nevada.

All workers were separated from the subject firm more than one year before the date of the petition. Section 223(b) of the Act specifies that no certification may apply to any worker whose last separation occurred more than one year before the date of the petition. Consequently, further investigation in this case would serve no purpose, and the investigation has been terminated.

Signed at Washington, DC, this 17th day of June, 2004.
Richard Church,
Certifying Officer, Division of Trade Adjustment Assistance.

[FR Doc. 04-15319 Filed 7-6-04; 8:45 am]

BILLING CODE 4510-30-P